CONSUMER PRODUCT SAFETY COMMISSION

Sunshine Act Meeting Notice

TIME AND DATE: Friday, December 12, 2014, 9:00 a.m.-11:00 a.m.

PLACE: Hearing Room 420, Bethesda Towers, 4330 East West Highway, Bethesda, MD.

STATUS: Commission Meeting—Open to the Public.

Matter To Be Considered: Decisional Matter: Fiscal Year 2015 Operating Plan.

A live Webcast of the Meeting can be viewed at www.cpsc.gov/live.

CONTACT PERSON FOR MORE INFORMATION: Todd A. Stevenson, Office of the Secretary, U.S. Consumer Product Safety Commission, 4330 East West Highway, Bethesda, MD 20814, (301) 504-7923.

Dated: December 4, 2014.
Alberta E. Mills,
Acting Secretary.

[FR Doc. 2014-28800 Filed 12-4-14; 4:15 pm]

BILLING CODE 6355-01-P